DEPARTMENT OF HOUSING AND URBAN DEVELOPMENT

[Docket No. FR-4665-N-20]

Meeting of the Manufactured Housing Consensus Committee

AGENCY: Office of the Assistant Secretary for Housing—Federal Housing Commissioner, HUD.

ACTION: Notice of upcoming meeting.

SUMMARY: This advises the public of an upcoming meeting of the Manufactured Housing Consensus Committee (the Committee) and publishes the schedule and proposed agenda for the meeting. The meeting is open to the public and the site is accessible to individuals with disabilities.

DATES: The Committee will meet on November 30, 2004 and December 1, 2004, from 8 a.m. to 5 p.m., and on December 2, 2004, from 8 a.m. to 12 p.m.

ADDRESSES: The Committee will meet at the Marriott San Diego Hotel & Marina, 333 West Harbor Drive, San Diego, California 92101, telephone (619) 234-1500.

FOR FURTHER INFORMATION CONTACT: William W. Matchneer III, Administrator, Manufactured Housing Program, Office of Consumer and Regulatory Affairs, Department of Housing and Urban Development, 451 7th Street SW., Washington, DC 20410-8000, telephone (202) 708-6409 (this is not a toll-free number). Persons with hearing- or speech-impairments may access this number through TTY by calling the toll-free Federal Information Relay Service at (800) 877-8339.

SUPPLEMENTARY INFORMATION: Notice of this meeting is provided in accordance with section 10(a)(2) of the Federal Advisory Committee Act (5 U.S.C. App.2) and 41 CFR 102-3.150. The Manufactured Housing Consensus Committee was established under section 604(a)(3) of the National Manufactured Housing Construction and Safety Standards Act of 1974, as amended by the Manufacturer Housing Improvement Act of 2000, 42 U.S.C. 4503(a)(3). The Consensus Committee is charged with providing recommendations to the Secretary to adopt, revise, and interpret manufactured housing construction and safety standards and procedural and enforcement regulations, and with developing proposed model installation standards.

Tentative Agenda

A. Welcome and Introductions

B. Departmental Status Report

C. Subpart I

D. Construction and Safety Standards

E. Installation Standards

F. Accessibility—Universal Design—Visitability

G. Public Testimony

H. Reports and Actions on Committee Work

I. Adjourn

Dated: November 9, 2004.
John C. Weicher,
Assistant Secretary for Housing—Federal Housing Commissioner.

[FR Doc. 04-25389 Filed 11-10-04; 11:36 am]

BILLING CODE 4210-27-P